DEPARTMENT OF ENERGY

Federal Energy Regulatory Commission

Notice of Application for Non-Project Use of Project Lands and Waters and Soliciting Comments, Motions To Intervene, and Protests

December 16, 2005.

Take notice that the following application has been filed with the Commission and is available for public inspection:

a. Application Type: Non-Project Use of Project Lands and Waters.

b. Project No.: 2145-069.

c. Date Filed: December 1, 2005.

d. Applicant: Public Utility District No. 1 of Chelan County.

e. Name of Project: Rocky Reach Hydroelectric Project.

f. Location: The proposed action would take place near river mile 493 on the Douglas County (east) shoreline of the project reservoir. The project is located on the Columbia River in Douglas and Chelan Counties, Washington.

g. Filed Pursuant to: Federal Power Act, 16 U.S.C. 791 (a) 825(r) and 799 and 801.

h. Applicant Contact: Ms. Michelle Smith, Licensing and Compliance Manager; Public Utility District No. 1 of Chelan County; P.O. Box 1231; Wenatchee, WA; 98807-1231; (888) 663-8121, Ext. 4180.

i. FERC Contact: Any questions on this notice should be addressed to Isis Johnson at (202) 502-6346, or by e-mail: Isis.Johnson@ferc.gov.

j. Deadline for filing comments and or motions: January 17, 2006.

All documents (original and eight copies) should be filed with: Ms. Magalie R. Salas, Secretary, Federal Energy Regulatory Commission, 888 First Street, NE., Washington DC 20426. Please include the project number (P-2145-069) on any comments or motions filed. Comments, protests, and interventions may be filed electronically via the Internet in lieu of paper. See, 18 CFR 385.2001(a)(1)(iii) and the instructions on the Commission's Web site under the “e-Filing” link. The Commission strongly encourages e-filings.

k. Description of Request: Public Utility District No. 1 of Chelan County, licensee for the Rocky Reach Hydroelectric Project, has requested Commission approval to permit Lake Entiat Lodge Associated (applicant) to expand the number of docks at the Lake Entiat Estates Marina (also known as Sun Cove Marina). The existing marina can accommodate 62 watercrafts, and was built in the mid-1960s within three small adjoining basins connected to the project reservoir. The applicant proposes a multi-year development plan designed to improve the marina for recreational use by the Lake Entiat Estates residential community. The development plan includes: (1) The installation of 12 new boat slips to accommodate a total of 24 boats; (2) dredging of fine sediment accumulation within the three existing basins; (3) extending two existing boat ramps; and (4) the expansion/replacement of certain existing marina float facilities.

l. Location of the Application: This filing is available for review at the Commission or may be viewed on the Commission's Web site at http://www.ferc.gov, using the “eLibrary” link. Enter the docket number excluding the last three digits in the docket number field to access the document. For assistance, contact FERC Online Support at FERCOnlineSupport@ferc.gov or toll-free at (866) 208-3676, or for TTY, contact (202) 502-8659.

m. Individuals desiring to be included on the Commission's mailing list should so indicate by writing to the Secretary of the Commission.

n. Comments, Protests, or Motions to Intervene: Anyone may submit comments, a protest, or a motion to intervene in accordance with the requirements of Rules of Practice and Procedure, 18 CFR 385.210, 385.211, 385.214. In determining the appropriate action to take, the Commission will consider all protests or other comments filed, but only those who file a motion to intervene in accordance with the Commission's Rules may become a party to the proceeding. Any comments, protests, or motions to intervene must be received on or before the specified comment date for the particular application.

o. Filing and Service of Responsive Documents: Any filings must bear in all capital letters the title “COMMENTS”, “RECOMMENDATIONS FOR TERMS AND CONDITIONS”, “PROTEST”, or “MOTION TO INTERVENE”, as applicable, and the Project Number of the particular application to which the filing refers. A copy of any motion to intervene must also be served upon each representative of the Applicant specified in the particular application.

p. Agency Comments: Federal, state, and local agencies are invited to file comments on the described applications. A copy of the applications may be obtained by agencies directly from the Applicant. If an agency does not file comments within the time specified for filing comments, it will be presumed to have no comments. One copy of an agency's comments must also be sent to the Applicant's representatives.

Magalie R. Salas,
Secretary.

[FR Doc. E5-7910 Filed 12-27-05; 8:45 am]

BILLING CODE 6717-01-P